SOCIAL SECURITY ADMINISTRATION

[Docket No. SSA 2016-0054]

Notice Announcing Addresses for Service of Process

AGENCY: Social Security Administration.

ACTION: Notice announcing addresses for summons and complaints.

SUMMARY: Our Office of the General Counsel (OGC) is responsible for processing and handling summonses and complaints in lawsuits involving judicial review of our final decisions on individual claims for benefits under titles II, VIII, and XVI of the Social Security Act (Act). This notice sets out the names and current addresses of those offices and the jurisdictions for which each office has responsibility.

FOR FURTHER INFORMATION CONTACT: David Mansfield, Office of the General Counsel, Office of Program Law, Social Security Administration, 6401 Security Boulevard, Baltimore, MD 21235-6404, (410) 966-2305. For information on eligibility or filing for benefits, call our national toll-free number, 1-800-772-1213 or TTY 1-800-325-0778, or visit our Internet site, Social Security Online, at http://www.socialsecurity.gov.

SUPPLEMENTARY INFORMATION: You should mail summonses and complaints in cases involving judicial review of our final decisions on individual claims for benefits under titles II, VIII, and XVI of the Act directly to the OGC location responsible for the jurisdiction in which the complaint has been filed. This notice replaces the notice we published on January 28, 2014 (79 FR 4519-04), and reflects the current jurisdictional assignments for our Regional Chief Counsels' Offices and our Office of Program Law. This notice reflects a change in the OGC jurisdictional assignments that will take effect for civil actions filed on or after January 1, 2017. The only change in this notice from our 2014 notice reflects the reassignment of responsibility for cases filed in the Northern District of Indiana to our Office of Program Law. The jurisdictional responsibilities, names, and addresses of our OGC offices are as follows:

Alabama

U.S. District Court—Middle District of Alabama: Office of the Regional Chief Counsel, Atlanta (Region IV).

U.S. District Court—Northern District of Alabama: Office of the Regional Chief Counsel, Atlanta (Region IV).

U.S. District Court—Southern District of Alabama: Office of Program Law, Baltimore.

Alaska

U.S. District Court—Alaska: Office of the Regional Chief Counsel, Seattle (Region X).

Arizona

U.S. District Court—Arizona: Office of the Regional Chief Counsel, Seattle (Region X).

Arkansas

U.S. District Court—Eastern District of Arkansas: Office of the Regional Chief Counsel, Dallas (Region VI).

U.S. District Court—Western District of Arkansas: Office of the Regional Chief Counsel, Dallas (Region VI).

California

U.S. District Court—Central District of California: Office of the Regional Chief Counsel, San Francisco (Region IX).

U.S. District Court—Eastern District of California: Office of the Regional Chief Counsel, San Francisco (Region IX).

U.S. District Court—Northern District of California: Office of the Regional Chief Counsel, San Francisco (Region IX).

U.S. District Court—Southern District of California: Office of the Regional Chief Counsel, San Francisco (Region IX).

Colorado

U.S. District Court—Colorado: Office of the Regional Chief Counsel, Denver (Region VIII).

Connecticut

U.S. District Court—Connecticut: Office of the Regional Chief Counsel, New York (Region II).

Delaware

U.S. District Court—Delaware: Office of the Regional Chief Counsel, Philadelphia (Region III).

District of Columbia

U.S. District Court—District of Columbia: Office of the Regional Chief Counsel, Philadelphia (Region III).

Florida

U.S. District Court—Middle District of Florida: Office of the Regional Chief Counsel, Atlanta (Region IV).

U.S. District Court—Northern District of Florida: Office of the Regional Chief Counsel, Atlanta (Region IV).

U.S. District Court—Southern District of Florida: Office of the Regional Chief Counsel, Atlanta (Region IV).

Georgia

U.S. District Court—Middle District of Georgia: Office of the Regional Chief Counsel, Atlanta (Region IV).

U.S. District Court—Northern District of Georgia: Office of the Regional Chief Counsel, Atlanta (Region IV).

U.S. District Court—Southern District of Georgia: Office of the Regional Chief Counsel, Atlanta (Region IV).

Guam

U.S. District Court—Guam: Office of the Regional Chief Counsel, San Francisco (Region IX).

Hawaii

U.S. District Court—Hawaii: Office of the Regional Chief Counsel, San Francisco (Region IX).

Idaho

U.S. District Court—Idaho: Office of the Regional Chief Counsel, Seattle (Region X).

Illinois

U.S. District Court—Central District of Illinois: Office of the Regional Chief Counsel, Chicago (Region V).

U.S. District Court—Northern District of Illinois: Office of the Regional Chief Counsel, Chicago (Region V).

U.S. District Court—Southern District of Illinois: Office of the Regional Chief Counsel, Chicago (Region V).

Indiana

U.S. District Court—Northern District of Indiana: Office of Program Law, Baltimore.

U.S. District Court—Southern District of Indiana: Office of the Regional Chief Counsel, Chicago (Region V).

Iowa

U.S. District Court—Northern District of Iowa: Office of the Regional Chief Counsel, Dallas (Region VI).

U.S. District Court—Southern District of Iowa: Office of the Regional Chief Counsel, Dallas (Region VI).

Kansas

U.S. District Court—Kansas: Office of the Regional Chief Counsel, Denver (Region VIII).

Kentucky

U.S. District Court—Eastern District of Kentucky: Office of the Regional Chief Counsel, Denver (Region VIII).

U.S. District Court—Western District of Kentucky: Office of the Regional Chief Counsel, Chicago (Region V).

Louisiana

U.S. District Court—Eastern District of Louisiana: Office of the Regional Chief Counsel, Dallas (Region VI).

U.S. District Court—Middle District of Louisiana: Office of the Regional Chief Counsel, Dallas (Region VI).

U.S. District Court—Western District of Louisiana: Office of the Regional Chief Counsel, Dallas (Region VI).

Maine

U.S. District Court—Maine: Office of the Regional Chief Counsel, Boston (Region I).

Maryland

U.S. District Court—Maryland: Office of Program Law, Baltimore.

Massachusetts

U.S. District Court—Massachusetts: Office of the Regional Chief Counsel, Boston (Region I).

Michigan

U.S. District Court—Eastern District of Michigan: Office of the Regional Chief Counsel, Boston (Region I).

U.S. District Court—Western District of Michigan: Office of the Regional Chief Counsel, Boston (Region I).

Minnesota

U.S. District Court—Minnesota: Office of the Regional Chief Counsel, Dallas (Region VI).

Mississippi

U.S. District Court—Northern District of Mississippi: Office of the Regional Chief Counsel, Dallas (Region VI).

U.S. District Court—Southern District of Mississippi: Office of the Regional Chief Counsel, Dallas (Region VI).

Missouri

U.S. District Court—Eastern District of Missouri: Office of the Regional Chief Counsel, Kansas City (Region VII).

U.S. District Court Western District of Missouri: Office of the Regional Chief Counsel, Kansas City (Region VII).

Montana

U.S. District Court—Montana: Office of the Regional Chief Counsel, Seattle (Region X).

Nebraska

U.S. District Court—Nebraska: Office of the Regional Chief Counsel, Dallas (Region VI).

Nevada

U.S. District Court—Nevada: Office of the Regional Chief Counsel, San Francisco (Region IX).

New Hampshire

U.S. District Court—New Hampshire: Office of the Regional Chief Counsel, Boston (Region I).

New Jersey

U.S. District Court—New Jersey: Office of the Regional Chief Counsel, Philadelphia (Region III).

New Mexico

U.S. District Court—New Mexico: Office of the Regional Chief Counsel, Denver (Region VIII).

New York

U.S. District Court—Eastern District of New York: Office of the Regional Chief Counsel, New York (Region II).

U.S. District Court—Northern District of New York: Office of the Regional Chief Counsel, New York (Region II).

U.S. District Court—Southern District of New York: Office of the Regional Chief Counsel, New York (Region II).

U.S. District Court—Western District of New York: Office of the Regional Chief Counsel, New York (Region II).

North Carolina

U.S. District Court—Eastern District of North Carolina: Office of Program Law, Baltimore.

U.S. District Court—Middle District of North Carolina: Office of the Regional Chief Counsel, Philadelphia (Region III).

U.S. District Court—Western District of North Carolina: Office of Program Law, Baltimore.

North Dakota

U.S. District Court—North Dakota: Office of the Regional Chief Counsel, Dallas (Region VI).

Northern Mariana Islands

U.S. District Court—Northern Mariana Islands: Office of the Regional Chief Counsel, San Francisco (Region IX).

Ohio

U.S. District Court—Northern District of Ohio: Office of the Regional Chief Counsel, Chicago (Region V).

U.S. District Court—Southern District of Ohio: Office of the Regional Chief Counsel, Chicago (Region V).

Oklahoma

U.S. District Court—Eastern District of Oklahoma: Office of the Regional Chief Counsel, Denver (Region VIII).

U.S. District Court—Northern District of Oklahoma: Office of the Regional Chief Counsel, Denver (Region VIII).

U.S. District Court—Western District of Oklahoma: Office of the Regional Chief Counsel, Denver (Region VIII).

Oregon

U.S. District Court—Oregon: Office of the Regional Chief Counsel, Seattle (Region X).

Pennsylvania

U.S. District Court—Eastern District of Pennsylvania: Office of the Regional Chief Counsel, Philadelphia (Region III).

U.S. District Court—Middle District of Pennsylvania: Office of the Regional Chief Counsel, Philadelphia (Region III).

U.S. District Court—Western District of Pennsylvania: Office of the Regional Chief Counsel, Philadelphia (Region III).

Puerto Rico

U.S. District Court—Puerto Rico: Office of the Regional Chief Counsel, New York (Region II).

Rhode Island

U.S. District Court—Rhode Island: Office of the Regional Chief Counsel, Boston (Region I).

South Carolina

U.S. District Court—South Carolina: Office of the Regional Chief Counsel, Philadelphia (Region III).

South Dakota

U.S. District Court—South Dakota: Office of the Regional Chief Counsel, Dallas (Region VI).

Tennessee

U.S. District Court—Eastern District of Tennessee: Office of the Regional Chief Counsel, Kansas City (Region VII).

U.S. District Court—Middle District of Tennessee: Office of the Regional Chief Counsel, Kansas City (Region VII).

U.S. District Court—Western District of Tennessee: Office of the Regional Chief Counsel, Kansas City (Region VII).

Texas

U.S District Court—Eastern District of Texas: Office of the Regional Chief Counsel, Dallas (Region VI).

U.S. District Court—Northern District of Texas: Office of the Regional Chief Counsel, Dallas (Region VI).

U.S. District Court—Southern District of Texas: Office of the Regional Chief Counsel, Dallas (Region VI).

U.S. District Court—Western District of Texas: Office of the Regional Chief Counsel, Dallas (Region VI).

Utah

U.S. District Court—Utah: Office of the Regional Chief Counsel, Denver (Region VIII).

Vermont

U.S. District Court—Vermont: Office of the Regional Chief Counsel, New York (Region II).

Virgin Islands

U.S. District Court—Virgin Islands: Office of the Regional Chief Counsel, New York (Region II).

Virginia

U.S. District Court—Eastern District of Virginia: Office of the Regional Chief Counsel, Philadelphia (Region III).

U.S. District Court—Western District of Virginia: Office of the Regional Chief Counsel, Philadelphia (Region III).

Washington

U.S. District Court—Eastern District of Washington: Office of the Regional Chief Counsel, Seattle (Region X).

U.S. District Court—Western District of Washington: Office of the Regional Chief Counsel, Seattle (Region X).

West Virginia

U.S. District Court—Northern District of West Virginia: Office of the Regional Chief Counsel, Philadelphia (Region III).

U.S. District Court—Southern District of West Virginia: Office of the Regional Chief Counsel, Philadelphia (Region III).

Wisconsin

U.S. District Court—Eastern District of Wisconsin: Office of the Regional Chief Counsel, Chicago (Region V).

U.S. District Court—Western District of Wisconsin: Office of the Regional Chief Counsel, Chicago (Region V).

Wyoming

U.S. District Court—Wyoming: Office of the Regional Chief Counsel, Denver (Region VIII).

Addresses of OGC Offices

Office of Program Law, Office of the General Counsel, Social Security Administration, 6401 Security Boulevard, Altmeyer Building, Room 617, Baltimore, MD 21235-6401

Office of the Regional Chief Counsel, Region I, Social Security Administration, JFK Federal Building, Room 625, 15 New Sudbury Street, Boston, MA 02203-0002

Office of the Regional Chief Counsel, Region II, Social Security Administration, 26 Federal Plaza, Room 3904, New York, NY 10278-0004

Office of the Regional Chief Counsel, Region III, Social Security Administration, 300 Spring Garden Street, 6th Floor, Philadelphia, PA 19123-2932

Office of the Regional Chief Counsel, Region IV, Social Security Administration, Sam Nunn Atlanta Federal Center, 61 Forsyth Street SW., Suite 20T45, Atlanta, GA 30303-8910

Office of the Regional Chief Counsel, Region V, Social Security Administration, 200 West Adams Street, 30th Floor, Chicago, IL 60606-5208

Office of the Regional Chief Counsel, Region VI, Social Security Administration, 1301 Young Street, Ste. A-702, Dallas, TX 75202-5433

Office of the Regional Chief Counsel, Region VII, Social Security Administration, Richard Bolling Federal Building, 601 E. 12th Street, Room 965, Kansas City, MO 64106-2898

Office of the Regional Chief Counsel, Region VIII, Social Security Administration, 1961 Stout Street, Suite 4169, Denver, CO 80294-4003

Office of the Regional Chief Counsel, Region IX, Social Security Administration, 160 Spear Street, Suite 800, San Francisco, CA 94105-1545

Office of the Regional Chief Counsel, Region X, Social Security Administration, 701 Fifth Avenue, Suite 2900 M/S 221A, Seattle, WA 98104-7075

Nancy A. Berryhill,
Acting Commissioner of Social Security.

[FR Doc. 2017-03495 Filed 2-22-17; 8:45 am]

BILLING CODE 4191-02-P